DEPARTMENT OF DEFENSE

Office of the Secretary

Defense Science Board

AGENCY: Department of Defense.

ACTION: Notice of Advisory Committee Meeting.

SUMMARY: The Defense Science Board Task Force on Intelligence Needs for Homeland Defense Chemical Panel will meet in closed session on June 5-6, 2001, in Las Vegas, Nevada. This Task Force will consider a broad spectrum of intelligence issues as they relate to chemical warfare issues, from early threat detection to deterrence, through response including attribution.

The mission of the Defense Science Board is to advise the Secretary of Defense and the Under Secretary of Defense for Acquisition, Technology & Logistics on scientific and technical matters as they affect the perceived needs of the Department of Defense. At this meeting, the Task Force will review and evaluate the Department's ability to evaluate the collection and analysis of target-related information and weapon unique information relative to chemical warfare issues; examine the role of HUMINT against these missions as well as the technology that the HUMINT collectors need to be equipped with; consider strategic indications and warning and tactical warning dissemination and how the two need to be merged; analyze methodology to correlate large data flows spatially, temporally and functionally; and assess the robustness of today's intelligence apparatus for coping with these challenges.

In accordance with Section 10(d) of the Federal Advisory Committee Act, Public Law 92-463, as amended (5 U.S.C., App. II), it has been determined that this Defense Science Board Task Force meeting concerns matters listed in 5 U.S.C. 552b(c)(1) and that, accordingly, this meeting will be closed to the public.

Dated: May 10, 2001.
L.M. Bynum,
Alternate OSD Federal Register Liaison Officer, Department of Defense.

[FR Doc. 01-13570 Filed 5-30-01; 8:45 am]

BILLING CODE 5001-08-M